DEPARTMENT OF HEALTH AND HUMAN SERVICES

[Document Identifier: OS-0990-0335]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Trends in U.S. Public Awareness of Racial and Ethnic Health Disparities (1999-2015)—Extension-OMB# 0990-0335—Office of Minority Health (OMH).

Abstract: The proposed survey seeks to collect data for one of OMH's annual performance measures, approved by the Office of Management and Budget (OMB) in February 2007, following OMB's examination of OMH using the Program Assessment Rating Tool (PART). This measure is to “increase awareness of racial/ethnic health status and health care disparities in the general population.” Findings from this data collection will enable OMH to track progress on this measure over time as necessitated by current OMB-approved program assessment requirements.

The lack of general awareness and understanding about the nature and extent of racial and ethnic health disparities in the U.S. and the impact that such disparities are having on the overall health of the Nation have been cited as a major barrier to the provision of programmatic, budgetary, and policy attention to these issues. Therefore, one of the long-term, annual measures agreed upon was to “increase awareness of racial/ethnic health status and health care disparities in the general population.”

Additionally, OMH can use the findings about progress made in raising awareness to identify collaborative partners in the federal government, at the state and local levels, among businesses and non-profits, and among the faith community, in order to reach a wider audience. Further, these results can be used by program decision-makers and policy-makers, within and outside of HHS, who are interested in capturing progress made over time as HHS disseminates information to the U.S. population that confirms the existence, and societal effects, of racial and ethnic health disparities.

Estimated Annualized Burden Table
Type of respondent | Number of respondents* | Number responses per respondent | Average burden per response (in hours) | Total burden hours
General Population | 3,159 | 1 | 14/60 | 737
Physician | 340 | 1 | 14/60 | 79
Total |  |  |  | 816
* Based on actual completion rates from the 2010 OMH/NORC survey.

Keith A. Tucker,
Office of the Secretary, Paperwork Reduction Act Reports Clearance Officer.

[FR Doc. 2012-1879 Filed 1-27-12; 8:45 am]

BILLING CODE 4150-29-P